DEPARTMENT OF HOMELAND SECURITY

Coast Guard

33 CFR Part 100

[Docket No. CGD05-07-098]

Special Local Regulations for Marine Events; Approaches to Annapolis Harbor, Spa Creek and Severn River, Annapolis, MD

AGENCY: Coast Guard, DHS.

ACTION: Notice of enforcement of regulation.

SUMMARY: The Coast Guard will enforce special local regulations during the Eastport Yacht Club Lights Parade on the waters of Spa Creek, Annapolis Harbor and the Severn River at Annapolis, Maryland; from 4:30 p.m. to 9 p.m., December 8, 2007. This action is necessary to control vessel traffic due to the confined nature of the waterway and expected vessel congestion during the event. During the enforcement period, the effect will be to restrict general navigation in the regulated area for the safety of event participants, spectators and vessels transiting the event area.

DATES: The regulations in 33 CFR 100.511 will be enforced from 4:30 p.m. to 9 p.m. on December 8, 2007.

FOR FURTHER INFORMATION CONTACT: Ronald Houck, Marine Events Coordinator, Commander, Coast Guard Sector Baltimore, 2401 Hawkins Point Road, Baltimore, MD 21226-1971, and (410) 576-2674.

SUPPLEMENTARY INFORMATION: The Coast Guard will enforce the special local regulations for the Eastport Yacht Club lighted boat parade on the waters of Spa Creek and the Severn River at Annapolis, Maryland in 33 CFR 100.511 on December 8, 2007 from 4:30 p.m. until 9 p.m. These regulations can be found in the May 24, 1989 issue of the Federal Register (54 FR 22438).

The Eastport Yacht Club will sponsor a lighted boat parade on the waters of Spa Creek and the Severn River at Annapolis, Maryland. The event will consist of approximately 50 boats traveling at slow speed along two separate parade routes in Annapolis Harbor. The participating boats will range in length from 10 to 60 feet, and each will be decorated with holiday lights.

In order to ensure the safety of participants, spectators and transiting vessels, 33 CFR 100.511 will be in effect for the duration of the event. Under provisions of 33 CFR 100.511, vessels may not enter the regulated area without permission from the Coast Guard Patrol Commander. Spectator vessels may anchor outside the regulated area but may not block a navigable channel. Because these restrictions will be in effect for a limited period, they should not result in a significant disruption of maritime traffic. The Coast Guard may be assisted by other Federal, State, or local law enforcement agencies in enforcing this regulation.

This notice is issued under authority of 33 CFR 100.511 and 5 U.S.C. 552(a). In addition to this notice, the maritime community will be provided extensive advance notification via the Local Notice to Mariners, marine information broadcasts, local radio stations and area newspapers, so mariners can adjust their plans accordingly. If the Captain of the Port or Patrol Commander determines that the regulated area need not be enforced for the full duration stated in this notice, he or she may use a Broadcast Notice to Mariners to grant general permission to enter the regulated area.

Dated: October 15, 2007.
Fred M. Rosa, Jr.,
Rear Admiral, U.S. Coast Guard Commander, Fifth Coast Guard District.

[FR Doc. E7-20976 Filed 10-24-07; 8:45 am]

BILLING CODE 4910-15-P